DEPARTMENT OF TRANSPORTATION

Office of the Secretary

Aviation Proceedings, Agreements Filed During the Week Ending May 11, 2001

The following Agreements were filed with the Department of Transportation under the provisions of 49 U.S.C. Sections 412 and 414. Answers may be filed within 21 days after the filing of the application.

Docket Number: OST-2001-10757.

Date Filed: October 2, 2001.

Parties: Members of the International Air Transport Association.

Subject:

PTC COMP 0843 dated 3 August 2001;

Composite Resolutions r1-r19;

PTC COMP 0852 dated 31 August 2001—technical correction;

Minutes—PTC COMP 0870 dated 2 October 2001;

Intended effective date: 1 April 2002.

Docket Number: OST-2001-10776.

Date Filed: October 4, 2001.

Parties: Members of the International Air Transport Association.

Subject:

PTC2 EUR 0402 dated 21 September 2001;

TC2 Within Europe Expedited Resolutions r1-r11;

PTC2 EUR 0403 dated 21 September 2001;

TC2 Within Europe Expedited Resolutions r12-r30;

PTC2 EUR 0404 dated 21 September 2001;

TC2 Within Europe Expedited Resolutions r31-r34;

PTC2 EUR 0405 dated 21 September 2001;

TC2 Within Europe Expedited Resolution 002t-r35;

Minutes—PTC2 EUR 0406 dated 28 September 2001;

Table—None;

Intended effective dates: 15 October, 1 November,15 November, 1 December 2001.

Dorothy Y. Beard,
Federal Register Liaison.

[FR Doc. 01-26146 Filed 10-16-01; 8:45 am]

BILLING CODE 4910-62-P